ENVIRONMENTAL PROTECTION AGENCY

[FRL-8171-8]

Casmalia Disposal Site; Notice of Proposed CERCLA Administrative Order on Consent

AGENCY: Environmental Protection Agency (EPA).

ACTION: Notice; request for public comment.

SUMMARY: In accordance with section 122(i) of the Comprehensive Environmental Response, Compensation, and Liability Act, as amended (“CERCLA”), 42 U.S.C. 9622(i), the EPA is hereby providing notice of a proposed administrative order on consent (“AOC”) concerning the Casmalia Disposal Site in Santa Barbara County, California (“the Casmalia Disposal Site”). Section 122(h) of CERCLA, 42 U.S.C. 9622(g), provides EPA with the authority to enter into administrative settlements. This settlement is intended to resolve the potential liabilities of the heirs and trustee of trusts established by two deceased limited partners in Casmalia Resources for the Casmalia Disposal Site under CERCLA and section 7003 of the Resource Conservation and Recovery Act (“RCRA”), 42 U.S.C. 6973. The settlement will also resolve these parties' Casmalia Disposal Site-related liability for response costs incurred or to be incurred. The settling parties will pay a $400,000 to EPA.

DATES: EPA will receive written comments relating to the settlement from May 22 to June 23, 2006. EPA will consider all comments it receives during this period, and may modify or withdraw its consent to the settlement if any comments disclose facts or considerations indicating that the settlement is inappropriate, improper, or inadequate.

In accordance with section 7003(d) of RCRA, 42 U.S.C. 6973(d), commenters may request an opportunity for a public meeting in the affected area. The deadline for requesting a public meeting is two weeks from the date of publication of this Notice. Requests for a public meeting may be made by calling Marie Rongone at (415) 972-3951, or e-mailing her at Rongone.Marie@epa.gov, or by facsimile at (415) 947-3570.

ADDRESSES: Written comments should be addressed to Casmalia Case Team, U.S. Environmental Protection Agency Region IX, 75 Hawthorne Street (mail code SFD-7-1), San Francisco, California 94105-3901.

FOR FURTHER INFORMATION CONTACT: Additional information about the Casmalia Disposal Site and about the proposed settlement may be obtained on the Casmalia Web site at: http://yosemite.epa.gov/r9/sfund/overview.nsf or by calling Marie Rongone, Esq. at (415) 972-3891.

Dated: April 28, 2006.
Nancy Lindsay,
Acting Director, Superfund Division, Region IX .

[FR Doc. E6-7654 Filed 5-18-06; 8:45 am]

BILLING CODE 6560-50-P